INTERNATIONAL BOUNDARY AND WATER COMMISSION

United States and Mexico

Notice of Availability of Final Environmental Impact Statement for the El Paso-Las Cruces Regional Sustainable Water Project Sierra and Doña Ana Counties, New Mexico and El Paso County, Texas

AGENCY: United States Section, International Boundary and Water Commission, United States and Mexico.

ACTION: Notice of availability of final environmental impact statement.

SUMMARY: Pursuant to section 102(2)(c) of the National Environmental Policy Act of 1969, as amended, the United States Section, International Boundary and Water Commission (USIBWC) in conjunction with the El Paso Water Utilities/Public Service Board has prepared a final environmental impact statement (FEIS) on the El Paso-Las Cruces Regional Sustainable Water Project in Sierra and Doña Ana counties, New Mexico and El Paso County, Texas as proposed by the New Mexico-Texas Water Commission. The FEIS analyzes the no action alternative and the impacts of five action alternatives from construction and operation of the project. No final decision can be made on this proposal during the 30 days following the filing of this FEIS, in accordance with the Council on Environmental Quality regulations, 40 CFR 1506.10(b)(2).

ADDRESSES: The FEIS may be inspected by appointment during normal business hours at: El Paso Water Utilities, 1154 Hawkins Boulevard, El Paso, Texas; and United States Section, International Boundary and Water Commission, 4171 North Mesa Street, Suite C-315, El Paso, Texas. Public libraries that have the FEIS available for review are: Branigan Memorial Library, 200 East Picacho Avenue, Las Cruces, New Mexico; El Paso Public Library, 501 North Oregon Street, El Paso, Texas; New Mexico State University Library, Las Cruces, New Mexico; and University Library, The University of Texas at El Paso, El Paso, Texas.

FOR FURTHER INFORMATION CONTACT: Mr. Douglas Echlin, Environmental Protection Specialist, Environmental Management Division, USIBWC, 4171 North Mesa Street, C-310, El Paso, Texas 79902 or call 915/832-4741. E-mail: dougechlin@ibwc.state.gov.

SUPPLEMENTARY INFORMATION: The New Mexico-Texas Water Commission, established in 1991 to help meet the water resource challenges of the region, proposed the El Paso-Las Cruces Regional Sustainable Water Project to secure future drinking water supplies from surface sources for the El Paso-Las Cruces region. The project includes the acquisition, conveyance, treatment, and distribution of a drinking water supply, and upgrading or constructing facilities for water conveyance, treatment, distribution, and aquifer storage and recovery. These activities comprise the following three project purposes to provide a year-round drinking water supply from the Rio Grande Project that is of sufficient quantity and quality to meet the anticipated municipal needs of Hatch, Las Cruces, northern and southern Doña Ana County, New Mexico and El Paso, Texas; to protect and maintain the sustainability of the Mesilla Bolson (ground water basin or aquifer); and to extend the longevity of the Hueco Bolson.

Project alternatives presented in this FEIS were designed to achieve these three project purposes. In addition, the project will strive to provide high quality water needed to achieve successful treatment and to meet federal drinking water standards; to deliver water efficiently and promote water conservation; and provide overall benefits to the riverine ecosystem, particularly aquatic and riparian habitats.

The project recognizes and accepts existing institutional and social constraints, including continuing to meet treaty, compact, and contract requirements for delivery of Rio Grande Project waters. The project would not adversely affect the quantity and quality of water deliveries to agricultural users; impose new responsibilities on state or federal governments; or preclude other opportunities to enhance the Rio Grande ecosystem. The need for this project is based on the region's future drinking water supply requirements. The project is necessary to avoid both potentially permanent impacts on the Mesilla and Hueco Bolsons and critical drinking water shortages in the El Paso-Las Cruces region. Population growth rates have increased sharply, increasing the demand for drinking water. It is projected that the Texas portion of the Hueco Bolson will be exhausted of all fresh water by the year 2025 because water is being pumped from the aquifer faster than it can be naturally replenished. If additional surface waters are not made available to supplement the drinking water supply, water shortages in the region will likely lead to severe health and sanitation problems.

Copies of the FEIS have been sent to agencies, organizations and individuals who participated in the scoping process and to those who have requested copies of the FEIS. A limited number of the FEIS may be obtained upon request from the contact person identified above. A Record of Decision will be prepared on this proposal after a minimum of 30 days following the filing of the FEIS. Any comments on the Final EIS must be received no later than 30 days after the date of publication of the notice of availability by the Environmental Protection Agency (EPA) in the Federal Register. No action will be taken on the proposed action before 30 days following publication of the notice of availability of the EIS by EPA.

Dated: November 17, 2000.
William A. Wilcox, Jr.,
Legal Advisor.

[FR Doc. 00-30224 Filed 11-28-00; 8:45 am]

BILLING CODE 4710-03-U